DEPARTMENT OF ENERGY

Federal Energy Regulatory Commission

[Docket Nos. CP13-507-000; PF12-20-000]

Northwest Pipeline GP; Notice of Application

Take notice that on June 25, 2013, Northwest Pipeline GP (Northwest), 295 Chipeta Way, Salt Lake City, Utah 84108, filed in Docket No. CP13-507-000 an abbreviated application under sections 7(b) and 7(c) of the Natural Gas Act (NGA) and Part 157 of the Commission's regulations, seeking a certificate of public convenience and necessity to grant abandonment authorizations and issue a certificate authorizing Northwest to construct and operate its Washington Expansion Project (Project). The Project consists of: (i) Ten segments totaling approximately 140 miles of 36-inch-diameter pipeline on Northwest's existing system between Sumas and Woodland, Washington; (ii) additional compression totaling 89,620 horsepower at five existing compressor stations between Sumas and Woodland; (iii) metering facilities in Whatcom County, Washington; and (iv) miscellaneous appurtenances, all as more fully set forth in the application which is on file with the Commission and open to public inspection. Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

The Project is designed to transport approximately 750,000 dekatherms per day of natural gas from Northwest's Sumas Meter Station to serve LNG Development Company, LLC (d/b/a Oregon LNG) (Oregon LNG) via an interconnect with Oregon Pipeline Company, LLC's proposed project filed with the Commission in Docket Nos. CP09-6-001 and CP09-7-001 on June 7, 2013, as well as to provide natural gas to growing markets in the state of Washington.

Questions regarding this application should be directed to Pam Barnes, Project Manager—Certificates at (801) 584-6857, Northwest Pipeline GP, 295 Chipeta Way, Salt Lake City, Utah 84108.

On July 16, 2012, the Commission staff granted Northwest's request to utilize the Pre-Filing Process and assigned Docket No. PF12-20 to staff activities involved with Northwest's project. Now, as of the filing of the application on June 25, 2013, the Pre-Filing Process for this project has ended. From this time forward, this proceeding will be conducted in Docket No. CP13-507-000, as noted in the caption of this Notice.

Furthermore, all e-Subscribers to PF12-20-000 received automatically generated email stating that your e-Subscription to Docket No. PF12-20-000 has also been assigned to Docket No. CP13-507-000, which includes all sub-docket numbers. The applicant has filed an application with the Commission in the new Docket No. CP13-507, which again includes all sub-docket numbers. The pre-filing Docket No. PF12-20 is now closed but will remain part of the record for this project. All future activity will be in the CP docket and you will continue to receive eSubscription emails for submittals and issuances in this proceeding, including any that may be filed under Docket No. PF12-20.

Because the Washington Expansion Project is a necessary part of the Oregon LNG bi-directional Terminal and Pipeline Project, the Commission will prepare a single Environmental Impact Statement (EIS) addressing both projects in order to comply with the National Environmental Policy Act (NEPA) of 1969. Pursuant to section 157.9 of the Commission's rules, 18 CFR 57.9, and to ensure compliance with the NEPA, 42 USC § 4321-4347, the Commission staff will issue a Notice of Schedule for Environmental Review within 90 days of the date of this Notice. The Notice of Schedule for Environmental Review will indicate, among other milestones, the anticipated date for the Commission staff's issuance of the final EIS for the proposal. The Notice will also alert other agencies of the requirement to complete necessary reviews and authorizations within 90 days of the date of issuance of the Commission staff's final EIS.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (www.ferc.gov) under the “e-Filing” link. Persons unable to file electronically should submit an original and 5 copies of the protest or intervention to the Federal Energy Regulatory Commission, 888 First Street NE., Washington, DC 20426.

Comment Date: 5:00 p.m. Eastern Time on August 12, 2013.

Dated: July 10, 2013.
Kimberly D. Bose,
Secretary.

[FR Doc. 2013-16998 Filed 7-15-13; 8:45 am]

BILLING CODE 6717-01-P